DEPARTMENT OF ENERGY

Federal Energy Regulatory Commission

[Project No. 15285-000]

Ocean Renewable Power Company, Inc.; Notice of Preliminary Permit Application Accepted for Filing and Soliciting Comments, Motions To Intervene, and Competing Applications

On August 22, 2022, Ocean Renewable Power Company, Inc. filed an application for a preliminary permit, pursuant to section 4(f) of the Federal Power Act, proposing to study the feasibility of the Western Passage Tidal Energy Project No. 15285 (project), to be located in the Western Passage Inlet of the Gulf of Maine, near the City of Eastport, Washington County, Maine. The sole purpose of a preliminary permit, if issued, is to grant the permit holder priority to file a license application during the permit term. A preliminary permit does not authorize the permit holder to perform any land-disturbing activities or otherwise enter upon lands or waters owned by others without the owners' express permission.

The proposed project would consist of the following: (1) up to five turbine-generators, including TidGen-80 units and other hydrokinetic tidal energy devices, with a combined installed capacity of 5 megawatts; (2) a mooring system to anchor each turbine-generator to the seabed; (3) an approximately 4,200-foot-long bundled submarine data line and 4.16- to 12.7-kilovolt (kV) transmission line connecting the turbine-generator units to a substation on the shoreline; (5) a 4.16- to 12.7- kV transmission line that is up to 2,600 feet long that connects the station on the shoreline to an existing electric distribution line; and (6) appurtenant facilities. The estimated average annual generation of the Western Passage Project would be up to 7.5 gigawatt-hours. There are no federal lands associated with the project.

Applicant Contact: Mr. Nathan Johnson, Vice President of Development, Ocean Renewable Power Company, Inc., 254 Commercial Street, Suite 119B, Portland, Maine 04101; phone: (207) 772-7707; email: njohnson@orpc.co.

FERC Contact: Michael Watts; phone: (202) 502-6123; email: michael.watts@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15285-000.

More information about this project, including a copy of the application, can be viewed or printed on the “eLibrary” link of the Commission's website at https://www.ferc.gov/. Enter the docket number (P-15285) in the docket number field to access the document. For assistance, contact FERC Online Support.

Dated: October 27, 2022.
Kimberly D. Bose
Secretary.

[FR Doc. 2022-23848 Filed 11-1-22; 8:45 am]

BILLING CODE 6717-01-P